DEPARTMENT OF TRANSPORTATION

Federal Aviation Administration

Premium War Risk Insurance

AGENCY: Federal Aviation Administration, DOT.

ACTION: Notice of extension of aviation insurance.

SUMMARY: This notice contains the text of a memo from the Secretary of Transportation to the President regarding the extension of the provision of aviation insurance coverage for U.S. flag commercial air carrier service in domestic and international operations.

DATES: Dates of extension from August 12, 2003 through October 11, 2003.

FOR FURTHER INFORMATION CONTACT: Helen Kish, Program Analyst, APO-3, or Eric Nelson, Program Analyst, APO-3, Federal Aviation Administration, 800 Independence Ave., SW., Washington, DC 20591, telephone (202) 267-9943 or (202) 267-3090. Or online at FAA Insurance Web site: http://insurance.faa.gov.

SUPPLEMENTARY INFORMATION: On August 11, 2003, the Secretary of Transportation authorized a 60-day extension of aviation insurance provided by the Federal Aviation Administration as follows:

Memorandum to the President

“Pursuant to the authority delegated to me by the President in paragraph (3) of Presidential Determination No. 01-29 of September 23, 2001, and the direction of Section 1202 of the Homeland Security Act of 2002, I hereby extend that determination to allow for the provision of aviation insurance and reinsurance coverage for U.S. Flag commercial air carrier service in domestic and international operations for an additional 60 days.

Pursuant to section 44306(b) of Chapter 443 of 49 U.S.C., Aviation Insurance, the period for provision of insurance shall be extended from August 13, 2003, through October 11, 2003.”

/s/ Norman Y. Mineta

Affected Public: Air Carriers who currently have Premium War-Risk Insurance with the Federal Aviation Administration.

Issued in Washington, DC on August 14, 2003.
John M. Rodgers,
Director, Office of Aviation Policy and Plans.

[FR Doc. 03-21326 Filed 8-19-03; 8:45 am]

BILLING CODE 4910-13-M